DEPARTMENT OF COMMERCE

National Oceanic and Atmospheric Administration

RIN 0648-XF935

South Atlantic Fishery Management Council; Public Meetings

AGENCY: National Marine Fisheries Service (NMFS), National Oceanic and Atmospheric Administration (NOAA), Commerce.

ACTION: Notice of public hearings.

SUMMARY: The South Atlantic Fishery Management Council (Council) will hold a series of public hearings pertaining to Amendment 31 to the Coastal Migratory Pelagics Fishery Management Plan for the Gulf of Mexico and Atlantic Region. The amendment would revise management for Atlantic Migratory Group Cobia.

DATES: The public hearings will be held via listening stations and webinar on January 22, January 23, and January 24, 2018.

ADDRESSES: See SUPPLEMENTARY INFORMATION for locations.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The public hearings will be conducted via webinar with assigned listening stations. The public hearings will begin at 6 p.m. Registration for the webinars is required. Registration information will be posted on the Council's website at www.safmc.net as it becomes available. Listening stations for each hearing will be available at the following locations:

January 22, 2018 Webinar

1. Port Royal Sound Maritime Center: 310 Okatie Hwy, Okatie, SC 29909.

2. North Carolina Division of Marine Fisheries' Central District Office: 5285 Highway 70 West, Morehead City, NC 28557.

3. Georgia Department of Natural Resources Coastal Division: One Conservation Way Brunswick, GA 31523.

January 23, 2018 Webinar

Hatteras Community Center: 57689 NC-12, Hatteras, NC 27943.

January 24, 2018 Webinar

Haddrell's Point Tackle: 885 Ben Sawyer Blvd., Mt Pleasant, SC 29464.

Amendment 31 to the Coastal Migratory Pelagics Fishery Management Plan

The draft amendment contains one action to revise the federal management system for Atlantic Migratory Group Cobia. Atlantic cobia are currently managed in federal waters from Georgia to New York. The amendment contains a range of alternatives from complementary management for Atlantic cobia with the Atlantic States Marine Fisheries Commission (ASMFC) to removal of Atlantic cobia from the federal management unit. Amendment 31 is expected to facilitate improved coordination of state and federal management of Atlantic cobia and provide for fair and equitable access to Atlantic cobia harvest opportunities.

During the public hearings, Council staff will present an overview of the amendment and will be available for informal discussions and to answer questions via webinar. Area Council members will be present at each of the Listening Stations. Members of the public will have an opportunity to go on record to record their comments for consideration by the Council.

Special Accommodations

These meetings are physically accessible to people with disabilities. Requests for auxiliary aids should be directed to the council office (see ADDRESSES) 3 days prior to the public hearings.

Note: The times and sequence specified in this agenda are subject to change.

Authority: 16 U.S.C. 1801 et seq.

Dated: December 27, 2017.
Tracey L. Thompson,
Acting Deputy Director, Office of Sustainable Fisheries, National Marine Fisheries Service.

[FR Doc. 2017-28288 Filed 12-29-17; 8:45 am]

BILLING CODE 3510-22-P